DEPARTMENT OF VETERANS AFFAIRS

Advisory Committee on Women Veterans, Notice of Meeting

The Department of Veterans Affairs (VA) gives notice under Public Law 92-463 (Federal Advisory Committee Act) that the Advisory Committee on Women Veterans will meet on August 20-24, 2012, in the Dennis Auditorium, 2B-137, at the VA Maryland Health Care System (VAMHCS), 10 North Greene Street, Baltimore, MD, from 8:30 a.m. until 4:30 p.m. each day.

The purpose of the Committee is to advise the Secretary of Veterans Affairs regarding the needs of women Veterans with respect to health care, rehabilitation, compensation, outreach, and other programs and activities administered by VA designed to meet such needs. The Committee makes recommendations to the Secretary regarding such programs and activities.

On August 20, the agenda will include overview briefings on the VAMHCS and the VA Capitol Health Care Network (Veterans Integrated Service Network 5) facilities, programs, demographics and women Veterans programs. On August 21, the Committee will receive briefings from VAMHCS program offices on homeless, outreach, and mental health. The Committee will also receive a benefits briefing from the Baltimore Regional Office and a briefing by staff from the Baltimore Vet Center. On August 22, the Committee will receive in depth briefings on several VAMHCS programs on Operation Enduring Freedom, Operation Iraqi Freedom and Operation New Dawn as well as military sexual trauma, domiciliary, inpatient mental health, Million Veteran, caregiver support, telehealth, public and community relations. In the afternoon, the Committee will convene a closed session in order to protect patient privacy as the Committee tours the VA Medical Center and the Comprehensive Women's Health Care Clinic. In the morning of August 23, the Committee will convene a closed session to protect patient privacy as they tour the McVets Center. The Committee will reconvene in an open session as they tour the Baltimore National Cemetery. In the afternoon, the Committee will reconvene in a closed session to protect patient privacy as they tour the Loch Raven VA Community Living and Rehabilitation Center. Closing portions of the sessions are in accordance with 5 U.S.C. 552b(c)(6). On August 24, the Committee will convene in open session to meet with VAMHCS leadership, and conduct a town hall meeting with the women Veterans community and other stakeholders.

With the exception of the town hall meeting, there will be no time for public comment during the meeting. Members of the public may submit written statements for the Committee's review to Ms. Shannon L. Middleton at the Department of Veterans Affairs, Center for Women Veterans (00W), 810 Vermont Avenue NW., Washington, DC 20420, fax at (202) 273-7092, or email at 00W@mail.va.gov. Any member of the public wishing to attend or seeking additional information should contact Ms. Middleton at (202) 273-7092.

Dated: August 7, 2012.
By Direction of the Secretary.
Vivian Drake,
Committee Management Officer.

[FR Doc. 2012-19725 Filed 8-10-12; 8:45 am]

BILLING CODE P